DEPARTMENT OF TRANSPORTATION

[Docket No. DOT-NHTSA-2013-0028]

Agency Requests for Approval of a New Information Collection: Motor Vehicle Brake Fluids

AGENCY: National Highway Traffic Safety Administration (NHTSA), Department of Transportation.

ACTION: Notice and request for comments.

SUMMARY: The Department of Transportation (DOT) invites public comments about our intention to request the Office of Management and Budget (OMB) approval for a new information collection. The collection involves labeling requirements for manufacturers and packagers of brake fluids as well as packagers of hydraulic system mineral oils. The information to be collected will be used to and/or is necessary to insure the following: the contents of the container are clearly stated; these fluids are used for their intended purpose only; and, the containers are properly disposed of when empty. We are required to publish this notice in the Federal Register by the Paperwork Reduction Act of 1995, Public Law 104-13.

DATES: Written comments should be submitted by June 10, 2013.

ADDRESSES: You may submit comments [identified by Docket No. DOT-NHTSA-2013-0028] through one of the following methods:

• Federal eRulemaking Portal: http://www.regulations.gov. Follow the online instructions for submitting comments.

• Fax: 1 (202) 493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Mr. Patrick Hallan, (202) 366-9146, NHTSA, U.S. Department of Transportation, 1200 New Jersey Avenue SE, Washington, DC, 20590.

SUPPLEMENTARY INFORMATION: OMB Control Number: 2127-0521

Title: 49 CFR 571.116, Motor Vehicle Brake Fluids

Form Numbers: N/A

Type of Review: Extension of a currently approved collection.

Background: Federal Motor Vehicle Safety Standard No. 116, “Motor Vehicle Brake Fluid,” specifies performance and design requirements for motor vehicle brake fluids and hydraulic system mineral oils. Section 5.2.2 specifies labeling requirements for manufacturers and packagers of brake fluids as well as packagers of hydraulic system mineral oils. The information on the label of a container of motor vehicle brake fluid or hydraulic system mineral oil is necessary to insure: the contents of the container are clearly stated; these fluids are used for their intended purpose only; and the containers are properly disposed of when empty. Improper use or storage of these fluids could have dire safety consequences for the operators of vehicles or equipment in which they are used.

Respondents: Business or other for profit organizations.

Estimated Number of Respondents: 200

Estimated Number of Responses: 200

Estimated Total Annual Burden: 7000 hours

Estimated Frequency: N/A

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued on: April 2, 2013.
Christopher J. Bonanti,
Associate Administrator for Rulemaking.

[FR Doc. 2013-08222 Filed 4-8-13; 8:45 am]

BILLING CODE 4910-59-P